Title 3—

The President

Proclamation 7719 of October 10, 2003

National School Lunch Week, 2003

By the President of the United States of America

A Proclamation

Over the last 57 years, the National School Lunch Program has provided more than 187 billion meals to young people across our country. During National School Lunch Week, we recognize the importance that good nutrition plays in the health of our children and in the development of good eating habits and healthy lifestyles.

By helping our children make healthy choices not only about food but also about their overall well-being, we can reduce the rates of childhood obesity and diabetes and help prevent heart disease, stroke, and other diseases later in life. Nutritious meals can also improve students' concentration and help them succeed in school.

As part of the National School Lunch Program, the Department of Agriculture's Team Nutrition advises school food service professionals on how to prepare healthy meals for children. Team Nutrition also provides nutrition programs for children, families, and communities to illustrate the link between diet and health. Today, more than 99,000 schools and childcare centers are educating young people about good eating habits. They are also helping to feed our Nation's needy children through the National School Lunch Program. For many students, low-cost or free school meals are sometimes the only nutritious food they eat. Over the years, the dedication of school officials, food service professionals, parents, and community leaders has helped to expand the National School Lunch Program to include breakfast, after-school snacks, milk breaks, and summer food programs.

In recognition of the contributions of the National School Lunch Program to the health, education, and well-being of America's children, the Congress, by joint resolution of October 9, 1962 (Public Law 87-780), as amended, has designated the week beginning on the second Sunday in October of each year as “National School Lunch Week” and has requested the President to issue a proclamation in observance of this week.

NOW, THEREFORE, I, GEORGE W. BUSH, President of the United States of America, do hereby proclaim October 12 through October 18, 2003, as National School Lunch Week. I call upon all Americans to join the dedicated individuals who administer the National School Lunch Program at the State and local levels in appropriate activities to promote programs that support the health and well-being of our Nation's children.

IN WITNESS WHEREOF, I have hereunto set my hand this tenth day of October, in the year of our Lord two thousand three, and of the Independence of the United States of America the two hundred and twenty-eighth.

B

[FR Doc. 03-26329

Filed 10-15-03; 8:45 am]

Billing code 3195-01-P